DEPARTMENT OF HEALTH AND HUMAN SERVICES

Substance Abuse and Mental Health Services Administration

Center for Mental Health Services; Notice of Meeting

Pursuant to Public Law 92-463, notice is hereby given of the meeting of the Center for Mental Health Services (CMHS) National Advisory Council in March 2006.

The meeting will be open to the public and will include discussions on current administrative, legislative and program developments. The meeting will also include SAMHSA Administrator's and CMHS Director's Reports; presentations and discussion sessions on working with youth and young adults in a consumer-centered approach, new approaches to workforce development, and an introduction to the new CMHS data system, TRAC (Transformation Accountability). Updates on the budget, disaster response, and mental health systems of care transformation in the states will be included in a roundtable discussion format.

Attendance by the public will be limited to space available. Public comments are welcome. Please communicate with the individual listed below as contact to make arrangements to comment or to request special accommodations for persons with disabilities.

Substantive program information, including a summary of the meeting and a roster of Council members may be obtained by accessing the SAMHSA/CMHS Web site: http://www.samhsa.gov/Council/CMHS as soon as possible after the meeting or by communicating with the contact whose name and telephone number are listed below. The transcript of the meeting will be available on the CMHS Council Web site within four weeks of the meeting.

Committee Name: Substance Abuse and Mental Health Services Administration Center for Mental Health Services National Advisory Council.

Meeting Date/Time: March 22, 2006, 9 a.m.-5 p.m. (Open). March 23, 2006, 9 a.m.-3 p.m. (Open).

Place: SAMHSA Building, Seneca and Rock Creek Conference Rooms, 1 Choke Cherry Road, Rockville, MD 20857.

Contact: Dianne McSwain, M.S.W., Executive Secretary, CMHS National Advisory Council, 1 Choke Cherry Road, Room 6-1083, Rockville, Maryland 20857. Telephone: (240) 276-1828, FAX (240) 276-1850. E-mail: dianne.mcswain@samhsa.hhs.gov.

Dated: March 4, 2006.
Toian Vaughn,
Committee Management Officer, Substance Abuse and Mental Health Services Administration.

[FR Doc. E6-3432 Filed 3-9-06; 8:45 am]

BILLING CODE 4162-20-P